DEPARTMENT OF COMMERCE

National Oceanic and Atmospheric Administration

50 CFR Part 648

RIN 0648-BA22

Fisheries of the Northeastern United States; Atlantic Deep-Sea Red Crab; Amendment 3

AGENCY: National Marine Fisheries Service (NMFS), National Oceanic and Atmospheric Administration (NOAA), Commerce.

ACTION: Notice of availability of a fishery management plan amendment; request for comments.

SUMMARY: NMFS announces that the New England Fishery Management Council (Council) has submitted Amendment 3 to the Atlantic Deep-Sea Red Crab Fishery Management Plan (FMP) (Amendment 3), incorporating a draft Environmental Assessment (EA) and an Initial Regulatory Flexibility Analysis (IRFA), for review by the Secretary of Commerce. NMFS is requesting comments from the public on Amendment 3, which was developed by the Council to bring the FMP into compliance with the annual catch limit (ACL) and accountability measure (AM) requirements of the Magnuson-Stevens Fishery Conservation and Management Act (Magnuson-Stevens Act).

DATES: Public comments must be received on or before August 22, 2011.

ADDRESSES: A draft EA was prepared for Amendment 3 that describes the proposed action and other considered alternatives, and provides a thorough analysis of the impacts of the proposed measures and alternatives. Copies of Amendment 3, including the draft EA and the IRFA, are available on request from Paul J. Howard, Executive Director, New England Fishery Management Council (Council), 50 Water Street, Newburyport, MA 01950. These documents are also available online at http://www.nefmc.org.

You may submit comments, identified by RIN 0648-BA22, by any one of the following methods:

• Electronic Submissions: Submit all electronic public comments via the Federal eRulemaking Portal: http://www.regulations.gov.

• Fax: (978) 281-9135, Attn: Moira Kelly.

• Mail: Patricia A. Kurkul, Regional Administrator, NMFS, Northeast Regional Office, 55 Great Republic Drive, Gloucester, MA 01930. Mark the outside of the envelope, “Comments on Red Crab Amendment 3.”

Instructions: All comments received are part of the public record and will generally be posted to http://www.regulations.gov without change. All personal identifying information (for example, name, address, etc.) voluntarily submitted by the commenter may be publicly accessible. Do not submit confidential business information or otherwise sensitive or protected information.

NMFS will accept anonymous comments (enter N/A in the required fields, if you wish to remain anonymous). You may submit attachments to electronic comments in Microsoft Word, Excel, WordPerfect, or Adobe PDF file formats only.

FOR FURTHER INFORMATION CONTACT: Moira Kelly, Fishery Policy Analyst, (978) 281-9218; fax: (978) 281-9135.

SUPPLEMENTARY INFORMATION:

Background

The Council developed Amendment 3 with the primary goal of bringing the FMP into compliance with the requirements of the reauthorized Magnuson-Stevens Act. The 2006 reauthorization of the Magnuson-Stevens Act contains several new requirements, including the requirement that all fisheries adopt ACLs to prevent overfishing, and measures to ensure accountability.

In addition to ACLs and AMs for the red crab fishery, Amendment 3 also proposes measures intended to respond to changing conditions in the fishery and opportunities to improve efficiency and accuracy. First, a measure is proposed to replace the days-at-sea (DAS) and a target total allowable catch (TAC) management scheme with a total allowable landings (TAL) limit. Second, a measure is proposed to eliminate the current trip limits for red crab limited access vessels. Third, a measure is proposed to modify the existing trap limit regulations. The current trap limit regulations state that red crab may not be harvested from gear other than a marked red crab trap, no more than 600 traps may be used when fishing for red crab, and lobster, red crab, or fish may not be harvested from a parlor trap while on a red crab DAS. The proposed measure would modify the regulation to prohibit more than 600 traps being deployed in water depths greater than 400 m, prohibit a limited access red crab vessel from harvesting red crab in water depths less than 400 m, and prohibit parlor traps from being deployed at water depths less than 400 m. A fourth measure is proposed to remove the prohibition of landing more than one standard tote (100 lb (45.4 kg)) of female red crabs, conditional on a scientific recommendation from the Council's Scientific and Statistical Committee. Specifications for fishing years 2011-2013 are also proposed.

Public comments on Amendment 3 and its incorporated documents may be submitted through the end of the comment period stated in this notice of availability. A proposed rule to implement Amendment 3 will be published in the Federal Register for public comment. Public comments on the proposed rule must be received by the end of the comment period provided in this notice of availability of Amendment 3 to be considered in the approval/disapproval decision on the amendment. All comments received by August 22, 2011, whether specifically directed to Amendment 3 or the proposed rule for Amendment 3, will be considered in the approval/disapproval decision on Amendment 3. Comments received after that date will not be considered in the decision to approve or disapprove Amendment 3. To be considered, comments must be received by close of business on the last day of the comment period.

Authority: 16 U.S.C. 1801 et seq.

Dated: June 17, 2011.
Margo Schulze-Haugen,
Acting Director, Office of Sustainable Fisheries, National Marine Fisheries Service.

[FR Doc. 2011-15639 Filed 6-21-11; 8:45 am]

BILLING CODE 3510-22-P